DEPARTMENT OF ENERGY

Federal Energy Regulatory Commission

Combined Notice of Filings #1

Take notice that the Commission received the following exempt wholesale generator filings:

Docket Numbers: EG25-7-000.

Applicants: NRG THW GT LLC.

Description: NRG THW GT LLC submits Notice of Self-Certification of Exempt Wholesale Generator Status.

Filed Date: 10/9/24.

Accession Number: 20241009-5091.

Comment Date: 5 p.m. ET 10/30/24.

Take notice that the Commission received the following Complaints and Compliance filings in EL Dockets:

Docket Numbers: EL24-151-000.

Applicants: Kentucky Municipal Energy Agency.

Description: Petition for Exemption from Filing Fee of Kentucky Municipal Energy Agency.

Filed Date: 10/4/24.

Accession Number: 20241004-5107.

Comment Date: 5 p.m. ET 10/25/24.

Take notice that the Commission received the following electric rate filings:

Docket Numbers: ER24-2336-001.

Applicants: Duquesne Light Company, PJM Interconnection, L.L.C.

Description: Tariff Amendment: Duquesne Light Company submits tariff filing per 35.17(b): PJM TOs' Response to the Sept. 9, 2024 Deficiency Notice in ER24-2336 to be effective 9/20/2024.

Filed Date: 10/9/24.

Accession Number: 20241009-5073.

Comment Date: 5 p.m. ET 10/30/24.

Docket Numbers: ER24-2338-001.

Applicants: PJM Interconnection, L.L.C.

Description: Tariff Amendment: Response to the Sept. 9, 2024 Deficiency Notice in ER24-2338 to be effective 12/31/9998.

Filed Date: 10/9/24.

Accession Number: 20241009-5075.

Comment Date: 5 p.m. ET 10/30/24.

Docket Numbers: ER24-2767-001.

Applicants: Pontotoc Wind, LLC.

Description: Tariff Amendment: Amendment Response to Request Additional Information to be effective 10/13/2024.

Filed Date: 10/9/24.

Accession Number: 20241009-5083.

Comment Date: 5 p.m. ET 10/30/24.

Docket Numbers: ER24-2787-000.

Applicants: Agway Energy Services, LLC.

Description: Supplement to 08/15/2024, Agway Energy Services, LLC tariff filing.

Filed Date: 10/9/24.

Accession Number: 20241009-5144.

Comment Date: 5 p.m. ET 10/21/24.

Docket Numbers: ER24-2833-001.

Applicants: Silver Peak Solar, LLC.

Description: Tariff Amendment: Amendment to 1 to be effective 8/23/2024.

Filed Date: 10/9/24.

Accession Number: 20241009-5132.

Comment Date: 5 p.m. ET 10/30/24.

Docket Numbers: ER25-63-000.

Applicants: Keystone Appalachian Transmission Company, PJM Interconnection, L.L.C.

Description: 205(d) Rate Filing: Keystone Appalachian Transmission Company submits tariff filing per 35.13(a)(2)(iii: KATCo submits Interconnection Agreement, SA No. 2532 with Duquesne to be effective 12/9/2024.

Filed Date: 10/9/24.

Accession Number: 20241009-5015.

Comment Date: 5 p.m. ET 10/30/24.

Docket Numbers: ER25-64-000.

Applicants: PJM Interconnection, L.L.C.

Description: 205(d) Rate Filing: Generator Interconnection Agreement, SA No. 7378; Project Identifier AF1-206 to be effective 9/9/2024.

Filed Date: 10/9/24.

Accession Number: 20241009-5079.

Comment Date: 5 p.m. ET 10/30/24.

Docket Numbers: ER25-65-000.

Applicants: Tri-State Generation and Transmission Association, Inc.

Description: 205(d) Rate Filing: Amendment to Rate Schedule FERC No. 16 to be effective 12/9/2024.

Filed Date: 10/9/24.

Accession Number: 20241009-5092.

Comment Date: 5 p.m. ET 10/30/24.

Docket Numbers: ER25-66-000.

Applicants: Midcontinent Independent System Operator, Inc.

Description: 205(d) Rate Filing: 2024-10-09_SA 4349 NSP-Sherco Solar 2 GIA (J1605) to be effective 10/7/2024.

Filed Date: 10/9/24.

Accession Number: 20241009-5125.

Comment Date: 5 p.m. ET 10/30/24.

Docket Numbers: ER25-67-000.

Applicants: Grace Orchard Solar II, LLC.

Description: Baseline eTariff Filing: Grace Orchard Solar II, LLC Application for Market-Based Rate Authorization to be effective 12/9/2024.

Filed Date: 10/9/24.

Accession Number: 20241009-5128.

Comment Date: 5 p.m. ET 10/30/24.

Docket Numbers: ER25-68-000.

Applicants: PJM Interconnection, L.L.C.

Description: 205(d) Rate Filing: Original GIA Service Agreement No. 7376; AF1-208 to be effective 9/9/2024.

Filed Date: 10/9/24.

Accession Number: 20241009-5169.

Comment Date: 5 p.m. ET 10/30/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 9, 2024.
Debbie-Anne A. Reese,
Secretary.

[FR Doc. 2024-23850 Filed 10-15-24; 8:45 am]

BILLING CODE 6717-01-P